OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Excepted Service provisions of 5 CFR 213 September 19, 2001 (66 FR 48297). Individual authorities established or revoked under under Schedule C between August 1, 2001, and September 30, 2001, appear in the listing below. Future notices will be published on the fourth Tuesday of each month, or as soon as possible thereafter. A consolidated listing of all authorities as of June 30 will also be published.

Schedule C

The following Schedule C authorities were established during August through September 2001:

Department of Agriculture

Special Assistant to the Under Secretary for Food, Nutrition and Consumer Services. Effective August 17, 2001.

Confidential Assistant to the Secretary of Agriculture. Effective September 13, 2001.

Confidential Assistant to the Secretary of Agriculture. Effective September 14, 2001.

Confidential Assistant to the Secretary of Agriculture. Effective September 18, 2001.

Director, Legislative and Intergovernmental Affairs to the Under Secretary for Research, Education and Economics. Effective September 19, 2001.

Confidential Assistant to the Secretary of Agriculture. Effective September 27, 2001.

Confidential Assistant to the Assistant Secretary for Administration. Effective September 27, 2001.

Department of Commerce

Special Assistant to the Under Secretary for Export Administration. Effective August 2, 2001.

Legislative Specialist to the Assistant Secretary for Legislative and Intergovernmental Affairs, National Oceanic and Atmospheric Administration. Effective August 3, 2001.

Deputy Director to the Director Of Public Affairs, National Oceanic and Atmospheric Administration. Effective August 6, 2001.

Executive Assistant to the Secretary of Commerce. Effective August 21, 2001.

Public Affairs Specialist to the Director, Office of Public Affairs. Effective August 21, 2001.

Special Assistant to the Assistant Secretary and Director General, United States and Foreign Commercial Service. Effective August 27, 2001.

Confidential Assistant to the Chief of Staff. Effective August 27, 2001.

Public Affairs Specialist to the Director of Public Affairs. Effective August 28, 2001.

Special Assistant to the Director, Office of External Affairs. Effective September 10, 2001.

Legislative Affairs Specialist to the Assistant Secretary for Legislative and Intergovernmental Affairs. Effective September 10, 2001.

Special Assistant to the Director, Office of Business Liaison. Effective September 10, 2001.

Senior Advisor for Privacy to the Under Secretary for Technology. Effective September 10, 2001.

Confidential Assistant to the Director, Office of Business Liaison. Effective September 10, 2001.

Public Affairs Specialist to the Director of Public Affairs. Effective September 10, 2001.

Public Affairs Specialist to the Director, Office of Public Affairs. Effective September 13, 2001.

Special Assistant to the Director, Bureau of Census. Effective September 17, 2001.

Director of Advance (Special Assistant to the Secretary) to the Director of External Affairs. Effective September 17, 2001.

Legislative Specialist for Trade to the Assistant Secretary for Legislative Affairs. Effective September 26, 2001.

Department of Defense

Personal and Confidential Assistant to the General Counsel. Effective August 13, 2001.

Special Assistant to the Deputy Assistant Secretary of Defense for Prisoner of War/Missing Personnel Affairs. Effective September 14, 2001.

Defense Fellow to the Special Assistant to the Secretary of Defense (White House Liaison). Effective September 19, 2001.

Staff Assistant to the Assistant Secretary of Defense (International Security Policy). Effective September 19, 2001.

Special Assistant to the Assistant Secretary of Defense (International Security Policy). Effective September 19, 2001.

Defense Fellow to the Special Assistant to the Secretary of Defense (White House Liaison). Effective September 20, 2001.

Special Assistant to the Director of Net Assessment. Effective September 21, 2001.

Defense Fellow to the Special Assistant to the Secretary of Defense (White House Liaison). Effective September 21, 2001.

Defense Fellow to the Special Assistant to the Secretary of Defense (White House Liaison). Effective September 21, 2001.

Department of Education

Confidential Assistant to the Director, Scheduling and Briefing Staff. Effective August 2, 2001.

Confidential Assistant to the Director, Office of Public Affairs. Effective August 2, 2001.

Confidential Assistant to the Director, Scheduling and Briefing Staff. Effective August 7, 2001.

Confidential Assistant to the Director, Scheduling and Briefing Staff. Effective August 7, 2001.

Special Assistant (Trip Director) to the Director, Scheduling and Briefing Staff. Effective August 21, 2001.

Director, White House Initiative on Hispanic Education to the Assistant Secretary for Intergovernmental and Interagency Affairs. Effective August 28, 2001.

Special Assistant to the Deputy Secretary. Effective August 28, 2001.

Special Assistant to the Under Secretary. Effective September 13, 2001.

Confidential Assistant to the Senior Advisor to the Secretary. Effective September 13, 2001.

Executive Assistant to the Deputy Secretary. Effective September 13, 2001.

Special Assistant to the Assistant Secretary for Postsecondary Education. Effective September 25, 2001.

Special Assistant to the Assistant Secretary for Intergovernmental and Interagency Affairs. Effective September 27, 2001.

Secretary's Regional Representative, Region I to the Deputy Assistant Secretary for Regional Services. Effective September 27, 2001.

Counselor to the Deputy Secretary. Effective September 28, 2001.

Department of Energy

Staff Assistant to the Deputy Assistant Secretary for International Energy Cooperation. Effective August 2, 2001.

Special Assistant to the Director, Office of Scheduling and Advance. Effective August 2, 2001.

Senior Advisor to the Director, Office of Nuclear Energy, Science and Technology. Effective August 2, 2001.

Senior Advisor to the Principal Deputy Assistant Secretary. Effective August 21, 2001.

Staff Assistant to the Assistant Secretary for Policy and International Affairs. Effective August 27, 2001.

Special Assistant to the Assistant Secretary for Fossil Energy. Effective September 13, 2001.

Congressional Affairs Officer to the Director, Congressional Affairs, National Nuclear Security Administration. Effective September 13, 2001.

Senior Policy Advisor to the Secretary of Energy. Effective September 14, 2001.

Special Assistant to the Chief Financial Officer. Effective September 17, 2001.

Special Assistant to the Chief Information Officer. Effective September 19, 2001.

Special Assistant to the Director, Office of Scheduling and Advance. Effective September 21, 2001.

Department of Health and Human Services

Congressional Liaison Specialist to the Deputy Assistant Secretary for Legislation (Congressional Liaison). Effective August 27, 2001.

Congressional Liaison Specialist to the Deputy Assistant Secretary for Legislation (Congressional Liaison). Effective August 27, 2001.

Director of Scheduling to the Chief of Staff. Effective September 13, 2001.

Congressional Liaison Specialist to the Deputy Assistant Secretary for Legislation (Congressional Liaision). Effective September 13, 2001.

Confidential Assistant (Advance) to the Director of Scheduling and Advance. Effective September 13, 2001.

Confidential Assistant to the Executive Secretary. Effective September 17, 2001.

Department of Housing and Urban Development

Assistant to the Secretary (White House Liaison) to the Chief of Staff. Effective August 7, 2001.

Press Secretary and Senior Communications Advisor to the Secretary to the Chief of Staff. Effective August 27, 2001.

Special Assistant to the Deputy Assistant Secretary for Congressional and Intergovernmental Relations. Effective September 10, 2001.

Special Assistant to the Deputy Assistant Secretary for Congressional Relations. Effective September 10, 2001.

General Deputy Assistant Secretary for Housing to the Assistant Secretary for Housing-Federal Housing Commissioner. Effective September 10, 2001.

Advance Coordinator to the Deputy Secretary. Effective September 13, 2001.

Advance Coordinator to the Director of Executive Scheduling. Effective September 13, 2001.

Staff Assistant to the Deputy Secretary. Effective September 21, 2001.

Staff Assistant to the Deputy Assistant Secretary for Congressional and Intergovernmental Affairs. Effective September 21, 2001.

Staff Assistant to the Assistant Secretary for Housing. Effective September 21, 2001.

Staff Assistant to the Deputy Secretary. Effective September 21, 2001.

Staff Assistant to the Deputy Assistant Secretary for Congressional and Intergovernmental Relations. Effective September 21, 2001.

Special Assistant to the Assistant Secretary for Public Affairs. Effective September 21, 2001.

Staff Assistant to the Deputy Secretary. Effective September 21, 2001.

Staff Assistant to the Deputy Secretary. Effective September 24, 2001.

Staff Assistant to the Deputy Secretary. Effective September 26, 2001.

Special Assistant to the General Counsel. Effective September 28, 2001.

Special Assistant to the Secretary. Effective September 28, 2001.

Department of the Interior

Special Assistant to the Director, Fish and Wildlife Service. Effective August 7, 2001.

Deputy Director to the Director, External and Intergovernmental Affairs. Effective August 8, 2001.

Speech Writer to the Director, Office of Communications. Effective August 13, 2001.

Special Assistant to the Director, National Park Service. Effective August 15, 2001.

Special Assistant to the Solicitor. Effective August 15, 2001.

Deputy White House Liaison to the White House Liaison. Effective August 21, 2001.

Special Assistant to the Assistant Secretary, Water and Science. Effective September 26, 2001.

Department of Justice

Attorney Advisor to the Assistant Attorney General, Civil Rights Division. Effective August 7, 2001.

Attorney Advisor to the Assistant Attorney General, Civil Rights Division. Effective August 10, 2001.

Special Assistant to the Assistant Attorney General, Environment and Natural Resources Division. Effective August 13, 2001.

Public Affairs Specialist to the Director, Office of Public Affairs. Effective August 13, 2001.

Press Assistant to the Director, Office of Public Affairs. Effective August 13, 2001.

Public Affairs Specialist to the Director, Office of Public Affairs. Effective August 13, 2001.

Counsel to the Attorney General. Effective August 16, 2001.

Counsel to the Assistant Attorney General, Office of Justice Programs. Effective August 27, 2001.

Staff Assistant to the Director, United States Marshals Service. Effective August 27, 2001.

Counsel to the Associate Attorney General. Effective September 7, 2001.

Attorney Advisor to the Assistant Attorney General, Office of Policy Development. Effective September 10, 2001.

Assistant to the Attorney General. Effective September 13, 2001.

Executive Assistant to the Commissioner, Immigration and Naturalization Service. Effective September 13, 2001.

Confidential Assistant to the Director, Office of Public Affairs. Effective September 13, 2001.

Staff Assistant to the Principal Deputy Assistant Attorney General, Office of Justice Programs. Effective September 13, 2001.

Counsel to the Associate Attorney General. Effective September 17, 2001.

Deputy Director to the Director, Office of Intergovernmental Affairs. Effective September 17, 2001.

Special Assistant to the Director, Office of Intergovernmental Affairs. Effective September 17, 2001.

Department of Labor

Staff Assistant to the Director of Scheduling and Advance. Effective August 2, 2001.

Staff Assistant to the Assistant Secretary for Public Affairs. Effective August 3, 2001.

Special Assistant to the Director of Scheduling and Advance. Effective August 6, 2001.

Special Assistant to the Deputy Assistant Secretary for Labor Management Standards. Effective August 6, 2001.

Special Assistant to the Assistant Secretary for Administration Management. Effective August 6, 2001.

Special Assistant to the Assistant Secretary, Pension and Welfare Benefits Administration. Effective August 27, 2001.

Special Assistant to the Deputy Assistant Secretary for Employment and Training. Effective August 27, 2001.

Staff Assistant to the Assistant Secretary for Policy. Effective August 27, 2001.

Senior Legislative Officer to the Assistant Secretary for Congressional and Intergovernmental Affairs. Effective September 17, 2001.

Senior Intergovernmental Officer to the Assistant Secretary for Congressional and Intergovernmental Affairs. Effective September 17, 2001.

Special Assistant to the Secretary of Labor. Effective September 17, 2001.

Staff Assistant to the Assistant Secretary for Public Affairs. Effective September 24, 2001.

Special Assistant to the Assistant Secretary for Employment and Training. Effective September 24, 2001.

Staff Assistant to the Director of Scheduling and Advance. Effective September 26, 2001.

Department of State

Staff Assistant to the Deputy Assistant Secretary. Effective August 2, 2001.

Staff Assistant to the Under Secretary for Management. Effective August 2, 2001.

Confidential Assistant to the White House Liaison. Effective August 2, 2001.

Protocol Officer to the Chief of Protocol. Effective August 7, 2001.

Special Assistant to the Under Secretary for Arms Control and International Security Affairs. Effective August 17, 2001.

Public Affairs Specialist to the Deputy Assistant Secretary. Effective August 20, 2001.

Public Affairs Specialist to the Assistant Secretary for Public Affairs. Effective August 24, 2001.

Special Assistant to the Chief of Protocol. Effective August 27, 2001.

Public Affairs Specialist to the Assistant Secretary for Public Affairs. Effective September 5, 2001.

Protocol Officer (Visits) to the Chief of Protocol. Effective September 5, 2001.

Special Assistant to the Assistant Secretary, Legal Advisor. Effective September 13, 2001.

Member to the Director, Office of Policy Planning Staff. Effective September 14, 2001.

Public Affairs Officer to the Assistant Secretary for Public Affairs. Effective September 17, 2001.

Confidential Assistant to the Secretary of State. Effective September 21, 2001.

Staff Assistant to the Secretary of State. Effective September 21, 2001.

Assistant Chief of Protocol for Ceremonials to the Chief of Protocol. Effective September 21, 2001.

Foreign Affairs Officer (Visits) to the Chief of Protocol. Effective September 26, 2001.

Special Assistant to the Assistant Secretary for Public Affairs. Effective September 26, 2001.

Special Assistant to the Chief of Protocol. Effective September 26, 2001.

Department of Transportation

Assistant for Policy to the Secretary of Transportation. Effective August 7, 2001.

Deputy Director to the Assistant to the Secretary and Director of Public Affairs. Effective August 9, 2001.

Associate Director for Speechwriting to the Assistant to the Secretary and Director of Public Affairs. Effective August 21, 2001.

Executive Assistant to the Secretary of Transportation. Effective September 17, 2001.

Confidential Assistant to the Assistant to the Secretary and Director of Public Affairs. Effective September 17, 2001.

Associate Director to the Deputy Assistant Secretary for Governmental Affairs. Effective September 28, 2001.

Associate Director to the Deputy Assistant Secretary for Governmental Affairs. Effective September 28, 2001.

Department of the Treasury

Special Assistant to the Assistant Secretary (Tax Policy). Effective August 6, 2001.

Director of Scheduling to the Chief of Staff. Effective August 6, 2001.

Special Assistant to the Treasurer of the United States. Effective August 6, 2001.

Public Affairs Specialist to the Director, Office of Public Affairs. Effective August 6, 2001.

Senior Advisor to the Deputy Secretary. Effective August 6, 2001.

Special Assistant to the Assistant Secretary for Legislative Affairs. Effective August 24, 2001.

Senior Advisor to the Deputy Assistant Secretary for Public Liaison. Effective August 24, 2001.

Staff Assistant to the White House Liaision. Effective September 13, 2001.

Equal Employment Opportunity Commission

Confidential Assistant to the Director, Office of Legal Cousel. Effective September 10, 2001.

Export-Import Bank of the United States

Special Assistant to the Vice President of Public Affairs. Effective September 21, 2001.

Federal Communications Commission

Special Assistant to the Director, Office of Media Relations. Effective September 28, 2001.

Federal Emergency Management Agency

Special Assistant to the Director. Effective August 16, 2001.

Director of Congressional and Intergovernmental Affairs Division to the Assistant Director, External Affairs. Effective August 16, 2001.

Confidential Assistant to the Director. Effective August 16, 2001.

Federal Energy Regulatory Commission

Regulatory Policy Analyst to the Director, Office of Markets, Tarrifs and Rates. Effective August 6, 2001.

Federal Maritime Commission

Special Advisor to a Commissioner. Effective August 14, 2001.

Federal Trade Commission

Congressional Liaison Specialist to the Director, Office of Congressional Relations. Effective August 23, 2001.

National Aeronautics and Space Administration

Senior Policy Analyst to the Chief of Staff. Effective August 23, 2001.

Chief of Staff to the Associate Administrator for Legislative Affairs. Effective August 23, 2001.

Office of Management and Budget

Deputy to the Associate Director for Legislative Affairs (Senate). Effective August 2, 2001.

Legislative Analyst to the Director, Office of Management and Budget. Effective August 2, 2001.

Confidential Assistant to the Deputy Director, Office of Management and Budget. Effective August 2, 2001.

Special Assistant to the Director, Office of Management and Budget. Effective August 17, 2001.

Public Affairs Specialist to the Associate Director for Communication. Effective August 24, 2001.

Confidential Assistant to the Associate Director, Information Technology and E-Government. Effective August 27, 2001.

Associate Administrator to the Administrator, Office of Procurement Policy. Effective September 13, 2001.

Special Assistant to the Administrator, Office of Information and Regulatory Affairs. Effective September 25, 2001.

Staff Assistant to the Director, Office of Management and Budget. Effective September 28, 2001.

Confidential Assistant to the Counselor to the Director (Controller, Office of Federal Financial Management). Effective September 28, 2001.

Office of Personnel Management

Deputy Chief of Staff to the Chief of Staff. Effective August 13, 2001.

Special Assistant to the Chief of Staff. Effective August 13, 2001.

Special Assistant to the Director, Office of Communications. Effective August 27, 2001.

Office of National Drug Control Policy

Deputy Chief of Staff to the Chief of Staff, ONDCP. Effective September 20, 2001.

Office of the United States Trade Representative

Public Affairs Specialist to the Associate U.S. Trade Representative for Policy and Communications. Effective August 21, 2001.

Overseas Private Investment Corporation

Executive Assistant to the President and Chief Executive Officer. Effective August 13, 2001.

Staff Assistant to the President and Chief Executive Officer. Effective August 13, 2001.

Executive Assistant to the Executive Vice President. Effective August 27, 2001.

Small Business Administration

Special Assistant to the Director of Intergovernmental Affairs. Effective August 30, 2001.

Senior Advisor to the Assistant Administrator for International Trade. Effective August 30, 2001.

Senior Policy Advisor to the Administrator. Effective August 30, 2001.

Director of Advisory Councils to the Associate Administrator for Communications and Public Liaison. Effective September 13, 2001.

Special Assistant to the Assistant Administrator for Congressional and Legislative Affairs. Effective September 13, 2001.

Special Assistant to the Director of Intergovernmental Affairs. Effective September 13, 2001.

Special Assistant to the Assistant Administrator for International Trade. Effective September 13, 2001.

United States Tax Court

Trial Clerk to a Judge. Effective August 22, 2001.

Trial Clerk to a Judge. Effective August 22, 2001.

Trial Clerk to a Judge. Effective August 22, 2001.

Trial Clerk to a Judge. Effective August 22, 2001.

Authority: 5 U.S.C. 3301 and 3302; E.O. 10577, 3 CFR 1954-1958 Comp., p. 218.

Office of Personnel Management.
Kay Coles James,
Director.

[FR Doc. 01-28830 Filed 11-16-01; 8:45 am]

BILLING CODE 6325-01-P